DEPARTMENT OF COMMERCE

International Trade Administration

[A-274-808]

Urea Ammonium Nitrate Solutions From the Republic of Trinidad and Tobago: Amended Preliminary Determination of Sales at Less Than Fair Value

AGENCY: Enforcement and Compliance, International Trade Administration, Department of Commerce.

SUMMARY: On February 2, 2022, the Department of Commerce (Commerce) published its preliminary determination in the less-than-fair-value investigation of urea ammonium nitrate solutions (UAN) from the Republic of Trinidad and Tobago (Trinidad) in the Federal Register. Commerce is amending this preliminary determination to correct a significant ministerial error.

DATES: Applicable March 8, 2022.

FOR FURTHER INFORMATION CONTACT: Lilit Astvatsatrian, AD/CVD Operations, Enforcement and Compliance, International Trade Administration, Department of Commerce, 1401 Constitution Avenue NW, Washington, DC 20230; telephone: (202) 482-6412.

SUPPLEMENTARY INFORMATION:

Background

On February 2, 2022, Commerce published in the Federal Register the preliminary determination in the less-than-fair-value investigation of UAN from Trinidad,¹ and disclosed all calculations to interested parties. On February 2, 2022, CF Industries Nitrogen, LLC and its subsidiaries, Terra Nitrogen, Limited Partnership and Terra International (Oklahoma) LLC (the petitioner) filed timely ministerial error allegations concerning the Preliminary Determination for the sole respondent, Methanol Holdings (Trinidad) Ltd. (MHTL), and requested, pursuant to 19 CFR 351.224(e), that Commerce correct the alleged ministerial error.²

¹ See Urea Ammonium Nitrate Solutions from the Republic of Trinidad and Tobago: Preliminary Affirmative Determination of Sales at Less Than Fair Value, Postponement of Final Determination, and Extension of Provisional Measures, 87 FR 5783 (February 2, 2022) (Preliminary Determination).

² See Petitioner's Letter, “Urea Ammonium Nitrate Solutions from the Republic of Trinidad and Tobago: Petitioner's Ministerial Error Comments Regarding the Preliminary Determination,” dated February 2, 2022 (Ministerial Allegation).

Period of Investigation

The period of investigation is April 1, 2020, through March 31, 2021.

Scope of the Investigation

The product covered by this investigation is UAN from Trinidad. For a complete description of the scope of the investigation, see Preliminary Determination, at Appendix I.

Significant Ministerial Error

In accordance with 19 CFR 351.224(e), Commerce “will analyze any comments received and, if appropriate, correct any significant ministerial error by amending the preliminary determination.” A ministerial error is defined in 19 CFR 351.224(f) as “an error in addition, subtraction, or other arithmetic function clerical error resulting from inaccurate copying, duplication, or the like, and any other similar type of unintentional error which the Secretary considers ministerial.” A significant ministerial error is defined as a ministerial error, the correction of which, singly or in combination with other errors, would result in: (1) A change of at least five absolute percentage points in, but not less than 25 percent of, the weighted-average dumping margin calculated in the original (erroneous) preliminary determination; or (2) a difference between a weighted-average dumping margin of zero or de minimis and a weighted-average dumping margin of greater than de minimis or vice versa.³

³ See 19 CFR 351.224(g)(1) and (2).

Ministerial Error Allegation

The petitioner timely alleged that Commerce made a significant ministerial error by adjusting MHTL's total cost of manufacturing twice when applying natural gas and electricity factors to account for a particular market situation (PMS).⁴ After analyzing these allegations, we determine that we made a significant ministerial error in the Preliminary Determination with respect to our PMS adjustment of MHTL's total cost of manufacturing.⁵ For a detailed discussion of the aforementioned ministerial error allegations, as well as Commerce's analysis of these comments, see the Ministerial Error Memorandum.

⁴ See Ministerial Allegations at 2.

⁵ See Memorandum, “Preliminary Determination of Antidumping Duty Investigation on Urea Ammonium Nitrate Solutions from the Republic of Trinidad and Tobago: Allegation of Ministerial Error,” dated concurrently with this notice (Ministerial Error Memorandum).

Pursuant to 19 CFR 351.224(g)(1), Commerce's error in the application of the PMS factors is significant, because its correction results in a change of at least five absolute percentage points in, but not less than 25 percent of, the estimated weighted-average dumping margin calculated in the Preliminary Determination (i.e., a change from an estimated weighted-average dumping margin of 63.08 percent to 111.64 percent.) Therefore, we are correcting the ministerial error and amending our Preliminary Determination accordingly.⁶

⁶ See Ministerial Error Memorandum.

Amended Preliminary Determination

We are amending the Preliminary Determination to reflect the correction of a significant ministerial error made in the margin calculation for MHTL in accordance with 19 CFR 351.224(e). In addition, because the preliminary “All-Others” rate was based on the estimated weighted-average dumping margin calculated for MHTL, we are also amending the “All-Others” rate. As a result of the correction of the ministerial error, the revised estimated weighted-average dumping margins are as follows:

Exporter/producer | Estimated weighted-average dumping margin (percent)
Methanol Holdings (Trinidad) Ltd | 111.64
All-Others | 111.64

Amended Cash Deposits and Suspension of Liquidation

The collection of cash deposits and suspension of liquidation will be revised according to the rates established in this amended preliminary determination, in accordance with section 773(d) of the Tariff Act of 1930, as amended (the Act). Because these amended rates result in increased cash deposit rates, they will be effective on the date of publication of this notice in the Federal Register.

International Trade Commission Notification

In accordance with section 773(f) of the Act, we intend to notify the International Trade Commission of our amended preliminary determination.

Disclosure

We intend to disclose the calculations performed to parties in this proceeding within five days after public announcement of the amended preliminary determination, in accordance with 19 CFR 351.224.

This amended preliminary determination is issued and published in accordance with sections 773(f) and 777(i) of the Act and 19 CFR 351.224(e).

Dated: March 1, 2022.
Lisa W. Wang,
Assistant Secretary for Enforcement and Compliance.

[FR Doc. 2022-04887 Filed 3-7-22; 8:45 am]

BILLING CODE 3510-DS-P